NATIONAL FOUNDATION FOR THE ARTS AND THE HUMANITIES

National Endowment for the Arts

National Council on the Arts 144th Meeting

Pursuant to section 10 (a) (2) of the Federal Advisory Committee Act (Pub. L. 92-463), as amended, notice is hereby given that a meeting of the National Council on the Arts will be held on November 2, 2001 from 9 a.m. to 1:30 p.m. in Room M-09 at the Nancy Hanks Center, 1100 Pennsylvania Avenue, NW, Washington, DC 20506.

This meeting will be open to the public on a space available basis. Following opening remarks and announcements, there will be Congressional and budget updates and guest presentations on the theme “The Arts & Creativity.” The tentative agenda will include a keynote address by Michael Kaiser, President, Kennedy Center followed by a guest presentation on the Endowment's Artists Colloquia by visual artist Ernesto Pujol. A discussion on The Arts and September 11 Events will follow. There will be additional guest presentations on Artist Support Projects, including Literature Fellowships, TCG (Theater Communications Group) Career Development Grants, and the NEA/Seaver Conductor Awards. Other topics will include: Application Review for Creativity, Organizational Capacity, Literature Fellowships and Leadership Initiatives; review of Guidelines for Arts Learning, Grants to Organizations, and Literature Fellowships; and general discussion, including the Council members' farewell remarks.

If, in the course of the open session discussion, it becomes necessary for the Council to discuss non-public commercial or financial information of intrinsic value, the Council will go into closed session pursuant to subsection (c)(4) of the Government in the Sunshine Act, 5 U.S.C. 552b.

Additionally, discussion concerning purely personal information about individuals, submitted with grant applications, such as personal biographical and salary data or medical information, may be conducted by the Council in closed session in accordance with subsection (c) (6) of 5 U.S.C. 552b.

Any interested persons may attend, as observers, Council discussions and reviews that are open to the public. If you need special accommodations due to a disability, please contact the Office of AccessAbility, National Endowment for the Arts, 1100 Pennsylvania Avenue, NW, Washington, DC 20506, 202/682-5532, TTY-TDD 202/682-5429, at least seven (7) days prior to the meeting.

Further information with reference to this meeting can be obtained from the Office of Communications, National Endowment for the Arts, Washington, DC 20506, at 202/682-5570.

Dated: October 9, 2001.
Kathy Plowitz-Worden,
Panel Coordinator, Office of Guidelines, Panel & Council Operations.

[FR Doc. 01-25836 Filed 10-12-01; 8:45 am]

BILLING CODE 7537-01-P